SMALL BUSINESS ADMINISTRATION

13 CFR Part 121

RIN 3245-AG51

Small Business Size Standards; Industries With Employee Based Size Standards Not Part of Manufacturing, Wholesale Trade, or Retail Trade; Correction

AGENCY: U.S. Small Business Administration.

ACTION: Proposed rule; correction.

SUMMARY: This notice makes corrections to the proposed rule that appeared in the Federal Register on September 10, 2014, entitled Small Business Size Standards; Industries with Employee Based Size Standards Not Part of Manufacturing, Wholesale Trade, or Retail Trade. This document corrects several incorrect figures in the preamble text.

DATES: These corrections are effective October 20, 2014. Comments on the proposed rule published September 10, 2014 at 79 FR 53646, continue to be accepted until November 10, 2014.

FOR FURTHER INFORMATION CONTACT: Jorge Laboy-Bruno, Ph.D., Economist, Size Standards Division, (202) 205-6618 or sizestandards@sba.gov.

SUPPLEMENTARY INFORMATION:

Background

The U.S. Small Business Administration (SBA) is correcting a proposed rule that appeared in the Federal Register on September 10, 2014 (79 FR 53646). The document proposed to modify the size standards for a number of industries that are not part of North American Industry Classification System (NAICS) Sector 31-33 (Manufacturing), Sector 42 (Wholesale Trade), or Sector 44-45 (Retail Trade). The document included a proposal to eliminate the Offshore Marine Air Transportation Services “exception” under NAICS 481211 and 481212 and the Offshore Marine Services “exception” under NAICS Subsector 483 and their $30.5 million receipts based size standard. The proposed changes included removing Footnote 15 and Footnote 18 from the table of size standards. However, where the supplementary information of the proposed rule refers to the Offshore Marine “exception” under NAICS 481211 and 481212, and under NAICS Subsector 483, it incorrectly states that $28 million is the current size standard. In addition, where the supplementary information of the proposed rule refers to the Information Technology Value Added Reseller (ITVAR) “exception” under NAICS 541519, it incorrectly states that the $25.5 million is the current size standard. SBA had increased all monetary based size standards for inflation, including these, effective July 14, 2014 (79 FR 33647). Because of the increase for inflation, the correct size standard in the supplementary information to the September 10, 2014 proposed rule that read $28 million referenced above should have read $30.5 million. Similarly, because of the increase for inflation, the correct size standard in the discussion of eliminating Footnote 18 and the ITVAR “exception” in the supplementary information to the September 10, 2014 proposed rule that read $25.5 million should have read $27.5 million. This action corrects the above stated size standards for these “exceptions.”

Correction of Errors

In FR Doc. 2014-20838 of September 10, 2014, (79 FR 53646) make the following corrections:

1. On page 53647, in the Summary section, first column, first partial paragraph, in line 21, the figure “$28” is corrected to read “$30.5”.

2. On page 53656,

a. First column, first paragraph, in line 18, the figure “$25.5” is corrected to read “$27.5”.

b. First column, third paragraph, in line 12, the figure “$25.5” is corrected to read “$27.5”.

c. Third column, first partial paragraph, line 2, the figure “$25.5” is corrected to read “$27.5”.

d. Third column, first paragraph, in line 5, the figure “$25.5” is corrected to read “$27.5”.

e. Third column, second paragraph,

(1) In line 3, the figure “$25.5” is corrected to read “$27.5”.

(2) In line 8, the figure “$25.5” is corrected to read “$27.5”.

3. On page 53658, third column, first partial paragraph under the heading “Offshore Marine Air Transportation Services and Offshore Marine Services”, in the line 4, the figure “$28” is corrected to read “$30.5”.

4. On page 53659,

a. First column, first paragraph,

(1) In line 7, the figure “$28” is corrected to read “$30.5”.

(2) In line 10, the figure “$28” is corrected to read “$30.5”.

b. Second column, first partial paragraph, in line 4, the figure “$28” is corrected to read “$30.5”.

c. Second column, second paragraph,

(1) In line 13, the figure “$28” is corrected to read “30.5”.

(2) In line 19, the figure “$28” is corrected to read “$30.5”.

d. Third column, first paragraph,

(1) In line 3, the figure “$28” is corrected to read “30.5”.

(2) In line 12, the figure “$28” is corrected to read “$30.5”.

5. On page 53660, first column, first paragraph, in line 19, the figure “$28” is corrected to read “$30.5”.

6. On page 53661, third column, first paragraph, in line 17, the figure “$28” is corrected to read “$30.5”.

7. On page 53662, third column,

a. First partial paragraph, in line 4, the figure “$25.5” is corrected to read “$27.5”.

b. In the first paragraph (numbered paragraph 5),

(1) In line 9, the figure “$28” million is corrected to read “$30.5” million.

(2) In line 17, the figure “$28” million is corrected to read “$30.5” million.

(3) In line 23, the figure “$28” is corrected to read “$30.5”.

Kenneth W. Dodds,
Director, Office of Government Contracting.

[FR Doc. 2014-24503 Filed 10-17-14; 8:45 am]

BILLING CODE 8025-01-P